DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Government Finance Forms.

Form Number(s): F-5, F-11, F-12, F-13, F-25, F-28, F-29, F-32, F-42.

Agency Approval Number: 0607-0585.

Type of Request: Revision of a currently approved collection.

Burden: 31,787 hours.

Number of Respondents: 10,159.

Avg Hours per Response: 3 hours and 7 minutes.

Needs and Uses: The U.S. Census Bureau requests continued OMB authorization for the forms necessary to carry out the information collection associated with both the Annual Survey of State and Local Government Finance and the finance phase of the quinquennial census of governments. In both the census and annual surveys, equivalent data are collected, except for the F-11 and F-12 public employee-retirement system forms. For these forms, in the Census year, an additional organizational and system coverage section is included.

The Census Bureau incorporates the data collected on these forms into its governmental finance program. This program has facilitated the dissemination of comprehensive and comparable governmental finance statistics since 1902. This program is the only known comprehensive source of state and local government finance data collected on a nationwide scale using uniform definitions, concepts, and procedures. Governmental finance statistics are widely used by Federal, state, and local legislators, policy makers, administrators, analysts, economists, and researchers to follow the changing characteristics of the government sector of the economy. Journalists, teachers, and students rely on these data as well.

The Census Bureau provides its governmental finance data annually to the Bureau of Economic Analysis (BEA) for use in measuring and developing estimates of the government sector of the economy in its National Income and Product Accounts. The Census Bureau also provides these data to the Federal Reserve Board for constructing its Flow of Funds Accounts.

Affected Public: State, local or Tribal governments.

Frequency: Annually and quinquennially.

Respondent's Obligation: Voluntary.

Legal Authority: Title 13, section 161, of the United States Code requires the Secretary of Commerce to conduct a census of governments every fifth year. Section 182 allows the Secretary to conduct annual surveys in other years.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: April 19, 2005.
Madeleine Clayton,
Management Analyst, Office of the Chief Information Officer.

[FR Doc. 05-8116 Filed 4-21-05; 8:45 am]

BILLING CODE 3510-07-P